FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. # | Acquiring | Acquired | Entities
Transactions Granted Early Termination—12/01/2003
20040112 | Gerald W. Schwartz | Magellan Health Services, Inc (Debtor-in-Possession) | Gerald W. Schwartz, Magellan Health Services, Inc. (Debtor-in-Possession).
20040122 | Lindsay Goldberg & Bessemer L.P | Waker Familiengesellschaft mbH & Co. KG | Lindsay Goldberg & Bessemer L.P., Wacker Construction Equipment AG, Waker Familiengesellschaft mbH & Co. KG.
20040128 | General Electric Company | Amersham plc | Amersham plc, General Electric Company.
20040157 | Heartland Industrial Partners, L.P | DaimlerChrysler AG | DaimlerChrysler AG, Heartland Industrial Partners, L.P., NC-M Chassis Systems, LLC.
20040158 | Starcraft Corporation | Wheel to Wheel, Inc | Starcraft Corporation, Wheel to Wheel, Inc.
20040163 | Soros Limited Partner LLC | MyTravel Group plc | Auto Europe, LLC, MyTravel Group plc, Soros Limited Partner LLC.
20040167 | Perry Partners, L.P | Republic Engineered Products Holdings LLC | Blue Steel Capital Corp., N&T Railway Company LLC, Perry Partners, L.P., Republic Engineered Products Holdings LLC, Republic Engineered Products LLC.
20040168 | Cisco Systems Inc | Latitude Communications, Inc | Cisco Systems, Inc., Latitude Communications, Inc.
20040171 | Taylor & Francis Group plc | Marcel Dekker, Inc | Marcel Dekker, Inc., Taylor & Francis Group plc.
20040175 | VNU N.V | VNU N.V | RBNMR, Inc., VNU N.V.
20040176 | IdeaSphere, Inc | Twinlab Corporation (Debtor-in-Possession) | IdeaSphere, Inc., Twinlab Corporation (Debtor-in-Possession), Twin Laboratories Inc., Twin Laboratories (UK) Ltd).
20040181 | Duquesne Light Holdings, Inc | WPS Resources Corporation | Duquesne Light Holdings, Inc., Sunbury Generation, LLC, WPS Resources Corporation.
Transactions Granted Early Termination—12/02/2003
20030971 | Wind Point Partners V, L.P | Process Chemicals, L.L.C | ARR-MAZ Management Company, AAR-MAZ Products, L.P., Process Chemicals, L.L.C., Wind Point Partners V, L.P.
20040160 | American Republic Mutual Holding Company | World Mutual Holding Company | American Republic Mutual Holding Company, World Insurance Company, World Mutual Holding Company.
20040184 | KKR European Fund, Limited Partnership | DaimlerChrysler AG | DaimlerChrysler AG, KKR European Fund, Limited Partnership, MTU Aero Engines GmbH.
Transactions Granted Early Termination—12/03/2003
20040094 | CommScope, Inc | Avaya Inc | Avaya Inc., CommScope, Inc.
20040096 | Wachovia Corporation | Richard Hollander | Metropolitan West Securities, LLC, Richard Hollander, Wachovia Corporation.
20040202 | Sun Capital Partners III QP, LP | Horsehead Industries, Inc | Chestnut Ridge Railway Company, Equidae Partners, HII Corporation, Horsehead Industries, Inc., Horsehead Resource Development, Inc., HRD Investment Company, Inc., Minerals and Resources Recovery Corp., NJZ Colors, Inc., Palmer Water Company, Pegasus Service Corporation, Sterling Resources, Inc., Stoney Ridge Materials, Inc., Sun Capital Partners III QP, LP, The New Jersey Zinc Co., Inc., ZCA Engineered Powders, Inc., ZCA Mines, Inc., ZCA Oil & Gas, Inc., ZCA Powders, Inc., Zinc Company of America, Inc.
Transactions Granted Early Termination—12/04/2003
20040169 | Saft Finance SARL | Alcatel | Alcatel, ASB Aerospatiale Batteries, Friemann & Wolf Battereietechnik Gmbh, SAFT AB (Sweden), SAFT America, Inc., SAFT A/S (Norway), SAFT Australia Pty Ltd., SAFT Baterias SL, SAFT Ferak, SAFT Finance SARL, SAFT Hong Kong Ltd., SAFT Nife Middle East Ltd., SAFT SA (France).
20040177 | Cypress Merchant Banking Partners II L.P | Green Equity Investors II, L.P | Communications & Power Industries Holding Corporation, Cypress Merchant Banking Partners II L.P., Green Equity Investors II, L.P.
20040183 | TPG Polymer Holdings LLC | Ripplewood Chemical Holding LLC | Ripplewood Chemical Holding LLC, TPG Polymer Holdings LLC.
20040187 | MatlinPatterson Global Opportunities Partners (Bermuda) L.P | NRG Energy, Inc | MatlinPatterson Global Opportunities Partners (Bermuda) L.P., NRG Energy, Inc.
20040188 | MatlinPatterson Global Opportunities Partners L.P | NRG Energy, Inc | MatlinPatterson Global Opportunities Partners L.P. NRG Energy, Inc.
Transactions Granted Early Termination—12/05/2003
20040086 | Lockheed Martin Corporation | The Titan Corporation | Lockheed Martin Corporation, The Titan Corporation.
20040165 | Capital Environmental Resource Inc | Allied Waste Industries, Inc | Allied Waste Industries, Inc. BFI Waste Systems of North America, Inc., Browning-Ferris Industries of Florida, Inc., Capital Environmental Resource Inc. E. Leasing Company, LLC, Jones Road Landfill and Recycling, Ltd.
20040180 | Orthofix International N.V | Breg, Inc | Breg, Inc. Orthofix International N.V.
20040193 | The Charles Schwab Corporation | SoundView Technology Group, Inc | SoundView Technology Group, Inc., The Charles Schwab Corporation.
Transactions Granted Early Termination—12/08/2003
20040164 | Blyth, Inc | Jackson Acquisition Company, LLC d/b/a Walter Drake | Blyth, Inc., Jackson Acquisition Company, LLC d/b/a Walter Drake.
20040194 | Granada Pic | Carlton Communications Pic | Carlton Communication Pic, Granada Pic.
20040197 | Ormat Industries Ltd | Covanta Energy Corporation | Covanta Energy Corporation, Covanta SIGC Energy II, Inc., Covanta SIGC Energy, Inc., Heber Field Company, Herber Geothermal Company, Mammoth Geothermal Co., Mammoth-Pacific, L.P., Ormat Industries Ltd., Pacific Geothermal Co., Second Imperial Geothermal Company, L.P.
20040200 | CH2M HILL Companies, Ltd | J.A. Jones, Inc., a debtor-in-possession | CH2M HILL Companies, Ltd., J.A. Jones, Inc., a debtor-in-possession, Lockwood Greene Engineers, Inc.
20040204 | Symantec Corporation | ON Technology Corporation | ON Technology Corporation, Symantec Corporation.
20040207 | 2000 Riverside Capital Appreciation Fund, L.P | Andrew T. Parker | 2000 Riverside Capital Appreciation Fund, L.P., American Hospice Management, Andrew T. Parker, Frontier Hospice LLC, Hospice of Arizona, LC, Hospice of Central Virginia.
20040208 | 2000 Riverside Capital Appreciation Fund, L.P | Michael P. Rosen | 2000 Riverside Capital Appreciation Fund, L.P., American Hospice Management, Frontier Hospice, LLC, Hospice of Arizona, LC, Hospice of Central Virginia, LLC, Michael P. Rosen.
20040213 | Deere & Company | Nortrax, Inc | Deere & Company, Nortrax, Inc.
Transactions Granted Early Termination—12/09/2003
20040206 | Pegasus Partners II, L.P | Farmland Industries, Inc | Farmland Industries, Inc., Pegasus Partners II, L.P.
20040211 | Wicks Communications and Media Partners, L.P | Cox Enterprises, Inc | CoxCom, Inc., Cox Communications Kansas, L.L.C., Cox Enterprises, Inc., Peak Cablevision, L.L.C., TCA Cable Partners, TCA Cable Partners II, Wicks Communications and Media Partners, L.P.
20040212 | HCA Inc | Triad Hospitals, Inc | Clinico, LLC, HCA Inc., IRHC, LLC, Kensingcare, LLC, OPRMC, LLC, Primary Medical, LLC, Triad Holdings III, LLC, Triad Hospitals, Inc., Trufor Pharmacy, LLC.
20040216 | H Group Holding, Inc | Reliant Pharmaceuticals, LLC | H Group Holding, Inc., Reliant Pharmaceuticals, LLC.
Transactions Granted Early Termination—12/10/2003
20030620 | BASF Aktiengesellschaft | Sunoco, Inc | BASF Aktiengesellschaft, Sunoco, Inc.
20040146 | AXA S.A | The MONY Group, Inc | AXA S.A., The MONY Group, Inc.
Transactions Granted Early Termination—12/11/2003
20040162 | Conexant Systems, Inc | GlobespanVirata, Inc | Conexant Systems, Inc., GlobespanVirata, Inc.
20040214 | A. Jerrold Perenchio | Ronald J. Morey | A. Jerrold Perenchio, Jarad Broadcasting Company, Inc., Ronald J. Morey.
Transactions Granted Early Termination—12/12/2003
20040185 | Thomas H. Lee Equity Fund V, L.P | Fenway Partners Capital Fund II, L.P | Fenway Partners Capital Fund II, L.P., Simmons Holdings, Inc., Thomas H. Lee Equity Fund V, L.P.
Transactions Granted Early Termination—12/15/2003
20040144 | CIBER, Inc | SCB Computer Technology, Inc | CIBER, Inc., SCB Computer Technology, Inc.
20040199 | Occidental Petroleum Corporation | Exxon Mobile Corporation | Exxon Mobile Corporation, Mobil Pipe Line Company, Occidental Petroleum Corporation.
20040218 | Gilbert Global Equity Partners, L.P | The Kattegat Trust | CPM Holdings, Inc., Gilbert Global Equity Partners, L.P., The Kattegat Trust.
20040224 | Citigroup, Inc | Washington Mutual, Inc. | Citigroup Inc., Washington Mutual Finance Corporation, Washington Mutual Finance Group, LLC, Washington Mutual, Inc
20040229 | Green Equity Investors IV, L.P | FTD, Inc | FTD, Inc., Green Equity Investors IV, L.P.
20040230 | ArcLight Energy Partners Fund I, L.P | Aquila, Inc | Aquila, Inc., ArcLight Energy Partners Fund I, L.P., UtilCo SaleCo, LLC.
20040231 | The Hartford Financial Services Group, Inc | Loews Corporation | Charles Stedman & Co., Inc., CNA Group Life Assurance Company, Lowes Corporation, The Hartford Financial Services Group, Inc.
20040233 | Network Appliance, Inc. | Spinnaker Networks, Inc | Network Appliance, Inc., Spinnaker Networks, Inc.
20040236 | Mr. Arthur Liu | Radio Unica Communications Corp | Mr. Arthur Liu, Radio Unica Communications Corp.
20040238 | Fiserv, Inc | MedPay Corporation | Fiserv, Inc., MedPay Corporation.
20040240 | Vestar Capital Partners IV, L.P | Essent Healthcare, Inc | Essent Healthcare, Inc., Vestar Capital Partners IV, L.P.
20040244 | Omnicom Group Inc | Icon Holding Corp | Icon Holding Corp., Omnicom Group Inc.
20040256 | USB AB | Suez | Ripon Cogeneration, Inc., Suez, USB AG.
20040258 | Frontenac VII Limited Partnership | CCCC Growth Fund, LLC | CCCC Growth Fund, LLC, Frontenac VII Limited Partnership, WNC Insurance Services, Inc.
20040259 | OCM Principal Opportunities Fund II, L.P | Alliance Communications, LLC | Alliance Communications, LLC, Alliance Communications Partners, L.P., OCM Principal Opportunities Fund II, L.P.
Transactions Granted Early Termination—12/16/2003
20040192 | Quanex Corporation | Kirtland Capital Partners II L.P | Kirtland Capital Partners II L.P., Quanex Corporation, TruSeal Technologies, Inc.
20040209 | Pentair, Inc | Veolia Environnement, S.A | Everpure, Inc., Pentair, Inc., Veolia Environnement, S.A.
20040217 | Bain Capital Fund V-B, L.P | Sealy Corporation | Bain Capital Fund V-B, L.P., Sealy Corporation.
20040225 | Hughes Supply, Inc | FS Equity Partners IV, L.P | Century Maintenance Supply, Inc., FS Equity Partners IV, L.P., Hughes Supply, Inc.
20040237 | Polycom, Inc | Voyant Technologies, Inc | Polycom, Inc., Voyant Technologies, Inc.
20040261 | Thomas H. Lee Parellel Fund V, L.P | THL Bedding Holding Company | THL Bedding Holding Company, Thomas H. Lee Parellel Fund V, L.P.
Transactions Granted Early Termination—12/17/2003
20040148 | Bank of America Corporation | FleetBoston Financial Corporation | Bank of America Corporation, FleetBoston Financial Corporation.
20040153 | FLIR Systems, Inc | Indigo Systems, Inc | FLIR Systems, Inc., Indigo Systems, Inc.
20040241 | Behrman Capital III L.P. | Brett R. Keith | Behrman Capital III L.P., Brett R. Keith, Hunter Defense Technologies, Inc.
20040247 | Exelon Corporation | Reservoir Capital Partners, L.P | Exelon Corporation, Reservoir Capital Partners, L.P., Sithe/Independence Power Partners, L.P.
20040248 | Reservoir Capital Partners, L.P | Exelon Corporation | Exelon Corporation, Reservoir Capital Partners, L.P., Sithe/Independence Power Partners, L.P.
20040249 | KAT Holdings, L.P | Paul D. Oddo and Angeline Oddo, husband and wife | KAT Holdings, L.P., Paul D. Oddo and Angeline Oddo, husband and wife, Superior Engineered Products Corp.
20040251 | Lyman B. Dickerson | Ionics, Incorporated | Ionics, Incorporated, Lyman B. Dickerson.
20040252 | Ionics, Incorporated | Lyman B. Dickerson | Ecolochem, Inc., Ecolochem International, Inc., Ecolochem S.A.R.L., Ionics, Incorporated, Lyman B. Dickerson, Moson Holdings, L.L.C.
20040260 | Thomas H. Lee Equity Fund V, L.P | THL Bedding Holding Company | THL Bedding Holding Company, Thomas H. Lee Equity Fund V, L.P.
20040266 | Frank H. McCourt, Jr | News Corporation Limited | Dodgetown, Inc., Fox Baseball Holdings, Inc., Frank H. McCourt, Jr., Los Angeles Dodgers, Inc., News Corporation Limited, Venue Merchandising Inc.
20040268 | A.A. Mordashov | Rouge Industries, Inc., Debtor in Possession | A.A. Mordashov, Rouge Industries, Inc., Debtor in Possession.
20040287 | Code Hennessy & Simmons IV, L.P | AMF Bowling Worldwide, Inc | AMF Bowling Worldwide, Inc., Code Hennessy & Simmons IV, L.P.
Transactions Granted Early Termination—12/18/2003
20030388 | General Electric Company | Agfa-Gevaert N.V | Agfa-Gevaert N.V., Agfa NDT Inc., General Electric Company.
20040220 | Cardinal Health, Inc | Medicap Pharmacies Incorporated | Cardinal Health, Inc., Medicap Pharmacies Incorporated.
Transactions Granted Early Termination—12/19/2003
20040098 | WebMD Corporation | TPG Holding Company Limited | MediFax-EDI Holding Company, TPG Holding Company Limited, WebMD Corporation.
20040191 | The Bank of New York Company, Inc | Fifth Third Bancorp | Fifth Third Bancorp, Fifth Third Bank, Fifth Third Bank, Florida, Fifth Third Bank, Indiana, Fifth Third Bank Kentucky, Inc., Fifth Third Bank, (Michigan), Fifth Third Bank, Northern Kentucky, Inc., Fifth Third Bank, (Ohio), The Bank of New York Company, Inc.
20040242 | Daniel Lebard | mg technologies AG | Daniel Lebard, mg technologies AG, Solvadis France (Holding) SAS.
20040243 | Pascal Lebard | mg technologies AG | mg technologies AG, Pascal Lebard, Salvadis France (Holding) SAS.
20040255 | American Capital Strategies, Ltd | Specialty Brands of America, L.P | American Capital Strategies, Ltd, Specialty Brands of America, L.P.
20040269 | Progress Software Corporation | CCG Investments BVI, L.P | CCG Investments BVI, L.P., DataDirect Technologies (Cayman Islands), DataDirect Technologies GmbH (Germany), DataDirect Technologies, Inc. (Delaware), DataDirect Technologies Kabushiki Kaisha (Japan), DataDirect Technologies Limited (Ireland), DataDirect Technologies, Ltd (U.K.), DataDirect Technologies N.V. (Belgium), Progress Software Corporation.
20040281 | ABRY Partners IV, L.P | Paul G. Allen | ABRY Partners IV, L.P., Charter Communications Holdings LLC, Charter Communications, Inc., Charter Communications, LLC, Charter Communications VI, LLC, Hornell Television Service, Inc., Interlink Communications Partners LLC, Paul G. Allen, The Helicon Group LP.

FOR FURTHER INFORMATION CONTACT: Sandra M. Peay, Contact Representative or Renee Hallman, Legal Technician, Federal Trade Commission, Premerger Notification Office, Bureau of Competition, Room H-303, Washington, DC 20580. (202) 326-3100.

By Direction of the Commission.
Shira P. Minton,
Acting Secretary.

[FR Doc. 03-32269 Filed 12-31-03; 8:45 am]

BILLING CODE 6750-01-M